COMMISSION ON CIVIL RIGHTS

Sunshine Act Meeting

AGENCY: Commission on Civil Rights.

DATES: Friday, July 18, 2003, 9:30 a.m.

PLACE: Commission on Civil Rights, 624 Ninth Street, NW., Room 540, Washington, DC 20425.

Status

Agenda

I. Approval of Agenda

II. Approval of Minutes of June 20, 2003 Meeting

III. Announcements

IV. Staff Director's Report

V. Ten-Year Check-Up: Have Federal Agencies Responded to Civil Rights Recommendations: Volume III

VI. A Quiet Crisis: Federal Funding and Unmet Needs in Indian County

VII. Future Agenda Items

11 a.m. Briefing on Community Reinvestment Challenges: Credit Access and Capital Accumulation in Low Income and Minority Communities.

FOR FURTHER INFORMATION CONTACT: Les Jin, Press and Communications, (202) 376-7700.

Debra A. Carr,
Deputy General Counsel.

[FR Doc. 03-17820 Filed 7-10-03; 10:55 am]

BILLING CODE 6335-0-M